DEPARTMENT OF COMMERCE

National Oceanic and Atmospheric Administration

15 CFR Part 902

[Docket No. 040831251-5046-03; I.D. 082504A]

RIN 0648-AS47

Fisheries of the Exclusive Economic Zone Off Alaska; Allocating Bering Sea and Aleutian Islands King and Tanner Crab Fishery Resources; Correction

AGENCY: National Marine Fisheries Service (NMFS), National Oceanic and Atmospheric Administration (NOAA), Commerce.

ACTION: Final rule; correcting amendment.

SUMMARY: NMFS issues this final rule, correcting amendment to the regulations governing the Bering Sea and Aleutian Islands crab fisheries. This action is necessary to correct Office of Management and Budget (OMB) control numbers for information collections previously approved under the Paperwork Reduction Act provided under an earlier rulemaking. This final rule in no way alters or amends those previously approved information collections. The sole purpose of this final rule is to display the appropriate control numbers for the approved information collections.

DATES: Effective on April 1, 2005.

FOR FURTHER INFORMATION CONTACT: Patsy A. Bearden, 907-586-7008 or patsy.bearden@noaa.gov.

SUPPLEMENTARY INFORMATION:

Background

In January 2004, the U.S. Congress amended section 313(j) of the Magnuson-Stevens Fishery Conservation and Management Act (Magnuson-Stevens Act) through the Consolidated Appropriations Act of 2004 (Pub. L. 108-199, section 801). As amended, section 313(j)(1) requires the Secretary to approve and implement by regulation the so-called Crab Rationalization Program (Program), as it was approved by the North Pacific Fishery Management Council (Council) between June 2002 and April 2003, and all trailing amendments, including those reported to Congress on May 6, 2003. In June 2004, the Council consolidated its actions on the Program into the Council motion, which is contained in its entirety in Amendment 18 to the Fishery Management Plan for Bering Sea/Aleutian Islands King and Tanner Crabs (FMP). Additionally, in June 2004, the Council developed Amendment 19 to the FMP, which represents minor changes necessary to implement the Program. The Notice of Availability for these amendments was published in the Federal Register on September 1, 2004 (69 FR 53397). NMFS approved Amendments 18 and 19 on November 19, 2004. NMFS published a proposed rule to implement Amendments 18 and 19 in the Federal Register on October 29, 2004 (69 FR 63200). NMFS published a final rule to implement Amendments 18 and 19 on March 2, 2005 (70 FR 10174).

Need for Corrections

In the final rule, published on March 2, 2005 (70 FR 10174), five of the eight OMB control numbers listed in the crab final rule classification section were incorrect. This final rule replaces the incorrect numbers with correct OMB control numbers in the classification section of the final rule and in the regulatory text at 15 CFR part 902.1.

On page 10231, column 2, third heading, replace OMB No. 0648-0272 with OMB No. 0648-0517.

On page 10231, column 3, first heading, replace OMB No. 0648-0503 with OMB No. 0648-0516.

On page 10231, column 3, second heading, replace OMB No. 0648-0504 with OMB No. 0648-0514.

On page 10231, column 3, third heading, replace OMB No. 0648-0503 with OMB No. 0648-0515.

On page 10231, column 3, fourth heading, replace OMB No. 0648 0506 with OMB No. 0648-0518.

Classification

The Administrator, Alaska Region, NMFS (Regional Administrator), has determined that this final rule is necessary for the conservation and management of the BSAI crab fisheries. The Regional Administrator also has determined that this final rule is consistent with the Magnuson-Stevens Act and other applicable laws.

This final rule has been determined to be not significant for the purposes of Executive Order 12866.

Pursuant to 5 U.S.C. 553(b)(B), the Assistant Administrator of Fisheries, NOAA (AA) finds good cause to waive prior notice and opportunity for public comment otherwise required by the section. NOAA finds that prior notice and comment are unnecessary as this rule is purely technical in nature, having no substantive impact whatsoever. This action merely corrects OMB control numbers for approved collections-of-information, in no way altering those approved collections. NOAA finds that because of the non-substantive nature of the correction, no particular public interest exists in this final rule for which there is justification or need for prior notice and opportunity for comment.

Because this correcting amendment does not institute any substantive obligations for the public, the requirement for a 30-day delay in the effective date to this action pursuant to 5 U.S.C. 553(d) does not apply.

Because prior notice and opportunity for public comment are not required for this rule by 5 U.S.C., or any other law, the analytical requirements of the Regulatory Flexibility Act, 5 U.S.C. 601 et seq., are inapplicable.

List of Subjects in 15 CFR Part 902

Reporting and recordkeeping requirements.

Dated: March 11, 2005.
William T. Hogarth
Assistant Administrator for Fisheries, National Marine Fisheries Service.

For the reasons set out in the preamble, 15 CFR part 902 is amended as follows:

PART 902—NOAA INFORMATION COLLECTION REQUIREMENTS UNDER THE PAPERWORK REDUCTION ACT; OMB CONTROL NUMBERS

1. The authority citation for part 902 continues to read as follows:

Authority: 44 U.S.C. 3501 et seq.

2. In § 902.1, the table in paragraph (b) under 50 CFR is amended by revising in numerical order entries for § 679.5(l)(3)(i), § 679.5(l)(4), § 680.4, § 680.5, § 680.6, § 680.20, § 680.21, § 680.40(f), (g), (h), (i), (j), (k), (l), and (m), § 680.41, § 680.43, and § 680.44 (a) through (f) to read as follows:

§ 902.1 OMB control numbers assigned pursuant to the Paperwork Reduction Act.

(b) * * *

CFR part or section where the information collection requirement is located | Current OMB control number (All numbers begin with 0648-)
* * * * * |
50 CFR |
* * * * * |
679.5(l)(3)(i), (l)(4) | -0272, -0517
* * * * * |
680.4 | -0514
680.5 | -0515
680.6 | -0518
680.20 | -0516
680.21 | -0514
* * * * * |
680.40(f), (g), (h), (i), (j), (k), (l), and (m) | -0514
680.41 | -0514
680.43 | -0514
680.44(a), (b), (c), (d), (e) | -0515
680.44(f) | -0514
* * * * * |

[FR Doc. 05-5349 Filed 3-17-05; 8:45 am]

BILLING CODE 3510-22-S